DEPARTMENT OF STATE

[Public Notice 6555]

Receipt of Request To Amend the Presidential Permit for an International Bridge on the U.S.-Mexico Border Near McAllen, TX, and Reynosa, Tamaulipas, Mexico

AGENCY: Department of State.

ACTION: Notice.

SUMMARY: The Department of State hereby gives notice that, on March 16, 2009, it received from the chairman of the Anzalduas Bridge Board, acting on behalf of the mayors of McAllen, Hidalgo, and Mission, Texas, a request to amend the Presidential permit that the Department issued in 1999 for the Anzalduas international bridge on the U.S.-Mexico border near McAllen, Texas and Reynosa, Tamaulipas, Mexico. The permittee proposes the removal of article 17 of the permit. Article 17 states that “[t]he permittee shall limit the initial hours of operation of the Anzalduas International Crossing to twelve hours per day, seven days per week for vehicular traffic.”

According to the Bridge Board's letter, the Department should amend the permit to remove article 17 so that the Department of Homeland Security's Bureau of Customs and Border Protection (CBP), working with the Anzalduas Bridge Board and Mexican customs authorities, can set the hours of operation of the bridge in accordance with demand and available resources. The letter says that limiting the operations of the bridge to only twelve hours per day is impractical and insufficient, and notes that other international bridges along the international border with Mexico operate 18 or 24 hours per day. The request suggests that operational requirements should be set at the local level, rather than in the Presidential permit itself.

The Department's jurisdiction over this application is based upon Executive Order 11423 of August 16, 1968, as amended, and Article 1 of the 1999 permit, which states that the permit “may be amended by the Secretary of State or the Secretary's delegate at will or upon proper application therefor.* * *” As provided in E.O. 11423, the Department is circulating this application to relevant federal and state agencies for review and comment. Under E.O. 11423, the Department has the responsibility to determine, taking into account input from these agencies and other stakeholders, whether the proposed amendment of this Presidential permit would be in the U.S. national interest.

DATES: Interested members of the public are invited to submit written comments regarding this application on or before April 22, 2009 to Mr. Daniel Darrach, U.S.-Mexico Border Affairs Coordinator, via e-mail at WHA-BorderAffairs@state.gov, or by mail at WHA/MEX—Room 3909, Department of State, 2201 C St., NW., Washington, DC 20520.

FOR FURTHER INFORMATION CONTACT: Mr. Daniel Darrach, U.S.-Mexico Border Affairs Coordinator, via e-mail at WHA-BorderAffairs@state.gov; by phone at 202-647-9894; or by mail at WHA/MEX—Room 3909, Department of State, 2201 C St., NW., Washington, DC 20520. General information about Presidential Permits is available on the Internet at http://www.state.gov/p/wha/rt/permit/.

Dated: March 16, 2009.
Alex Lee,
Director, Office of Mexican Affairs, Department of State.

[FR Doc. E9-6324 Filed 3-20-09; 8:45 am]

BILLING CODE 4710-29-P